CORPORATION FOR NATIONAL AND COMMUNITY SERVICE

Agency Information Collection Activities; Submission to the Office of Management and Budget for Review and Approval; Comment Request; NCCC Team Leader Application; Proposed Information Collection; Comment Request

AGENCY: Corporation for National and Community Service.

ACTION: Notice.

SUMMARY: The Corporation for National and Community Service (CNCS) has submitted a public information collection request (ICR) entitled NCCC Team Leader Application for review and approval in accordance with the Paperwork Reduction Act.

DATES: Written comments must be submitted to the individual and office listed in the ADDRESSES section by September 11, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Gary Crosson, at 202-606-6688 or by email to GCrosson@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 25, 2020 at 16930. This comment period ended May, 26, 2020. No public comments were received in response to this Notice.

Title of Collection: NCCC Team Leader Application.

OMB Control Number: 3045-0005.

Type of Review: Renewal.

Respondents/Affected Public: Individuals and Households.

Total Estimated Number of Annual Responses: 800.

Total Estimated Number of Annual Burden Hours: 1,600.

Abstract: The NCCC Team Leader application, which is available electronically for all applicants, provides information CNCS uses to select Team Leaders for AmeriCorps National Civilian Community Corps (NCCC). CNCS seeks to renew the current information collection. The revisions are intended to allow us to ask more specific questions about the difficulites of serving in the NCCC program and if the applicant is ready for those challenges. The revisions will also allow applicants to provide explantations when they answer “No” or “Maybe” to one of the seventeen “Yes,” “No,” or “Maybe” questions we ask. The information collection will otherwise be used in the same manner as the existing application. CNCS also seeks to continue using the current application until the revised application is approved by OMB. The current application is due to expire on 11/30/2020.

Dated: August 3, 2020.
Jacob Sgambati,
Acting Deputy Director, AmeriCorps NCCC.

[FR Doc. 2020-17656 Filed 8-11-20; 8:45 am]

BILLING CODE 6050-28-P